DEPARTMENT OF ENERGY

10 CFR Part 719

48 CFR Parts 931 and 970

RIN 1990-AA27

Contractor Legal Management Requirements; Department of Energy Acquisition Regulation

AGENCY: Department of Energy (DOE).

ACTION: Final rule; completion of regulatory review.

SUMMARY: In accordance with the memorandum of January 20, 2001, from the Assistant to the President and Chief of Staff, entitled “Regulatory Review Plan,” published in the Federal Register on January 24, 2001 (66 FR 7702), DOE temporarily delayed for 60 days (66 FR 8746, February 2, 2001) the effective date of the rule entitled “Contractor Legal Management Requirements; Department of Energy Acquisition Regulation” published in the Federal Register on January 18, 2001 (66 FR 4616). DOE has now completed its review of that regulation and does not intend to initiate any further rulemaking action to modify its provisions and confirms the effective date of April 23, 2001.

DATES: The effective date of the rule published at 66 FR 8746, February 2, 2001, is confirmed as April 23, 2001.

FOR FURTHER INFORMATION CONTACT: Laura Fullerton, (202) 586-3420, laura.fullerton@hq.doe.gov; or Anne Broker, (202) 586-5060, anne.broker@hq.doe.gov.

Issued in Washington, DC.
Spencer Abraham,
Secretary of Energy.

[FR Doc. 01-9466 Filed 4-16-01; 8:45 am]

BILLING CODE 6450-01-P